DEPARTMENT OF AGRICULTURE

Forest Service

Rio Grande National Forest, Divide Ranger District; Mineral County, CO; Village at Wolf Creek Land Exchange

AGENCY: Forest Service, USDA.

ACTION: Notice of intent to prepare an Environmental Impact Statement.

SUMMARY: The Rio Grande National Forest is preparing an Environmental Impact Statement to analyze the environmental effects of the proposed Village at Wolf Creek Land Exchange. This project includes the conveyance of approximately 177 acres of a non-Federal land parcel owned by the Leavell-McCombs Joint Venture (LMJV) to the United States in exchange for National Forest System lands totaling approximately 204 acres. The non-Federal parcel is located in T37N., R2E., NMPM, Mineral County, CO, Sections 4, 5, 8 and 9, a portion of Tract 37. The Federal parcel is located in T37N., R2E., NMPM, Mineral County, CO, Sections 3, 4, 5, and 9.

DATES: Formal scoping on this project begins on April 20, 2011. Public open houses will be held 4:30-7 p.m. on April 25, in Creede, CO at the Creede Community Center; April 26 in Pagosa Springs at the Aragon Recreation Center, CO and April 27 in Del Norte at the Rio Grande County Annex Building, CO. Comments concerning the scope of the analysis should be received by June 4, 2011. The draft environmental impact statement is expected in December, 2011 and the final environmental impact statement is expected in March, 2012.

ADDRESSES: Send written comments to the Rio Grande National Forest, Divide Ranger District, 13308 West Highway 160, Del Norte, CO 81132. Comments may also be sent via e-mail to: comments-rocky-mountain-rio-grande@fs.fed.us or via facsimile to 1-719-657-6035.

FOR FURTHER INFORMATION CONTACT: Additional information related to the proposed project can be obtained from the Forest webpage at: http://www.fs.usda.gov/riogrande. For further information, contact Tom Malecek at (719) 657-3321.

SUPPLEMENTARY INFORMATION: Background: In 1986, a Decision Notice for the Environmental Assessment of the Proposed Wolf Creek Land Exchange allowed the conveyance of 300 acres of National Forest System (NFS) land on the Divide Range District adjacent to the Wolf Creek Ski Area (WCSA) in exchange for non-Federal lands located within the Saguache Ranger District on the Rio Grande National Forest. In 2004, the Forest Service initiated an Environmental Impact Statement (EIS) in response to a request for legal access to the property, under the Alaska National Interests Lands Conservation Act (ANILCA), in order to allow the private landowners the ability to begin development of the Village at Wolf Creek. In March 2006, a Record of Decision (ROD) was signed, approving transportation and utility corridors across NFS lands. In February 2008, as part of a Settlement Agreement, the ROD was withdrawn. In September 2008, the Forest Service initiated a new EIS after receiving a new application for permanent road access from the proponent. Early in the project analysis, the project was placed on indefinite hold pending new information and potentially a new application.

LMJV has submitted this current land exchange proposal as an alternative to an ANILCA enabled easement under the Federal Land Policy and Management Act (FLPMA), as the Federal parcel abuts US Highway 160.

Purpose and Need for Action: The non-Federal party, LMJV, holds title to land within the boundaries of the NFS, and as such “* * * the Secretary shall provide such access to non-federally owned land within the boundaries of the National Forest System as the Secreatry deems adequate to secure to the owner the reasonable use and enjoyment thereof * * *”

Therefore, the Rio Grande NF's Purpose and Need for Action is to allow the non-Federal party to access its property as legally entitled, while minimizing environmental effects to natural resources within the project area. Any method of accommodating access to private land in the project area needs to be cognizant of and sensitive to the operations and recreational experiences at Wolf Creek Ski Area, which is adjacent to the non-Federal parcel and operates under a Special Use Permit from the Rio Grande NF.

Proposed Action: Given the non-Federal party's legal right to access its property and the United States legal obligation to provide access to the inholding, the Rio Grande NF believes that a land exchange may be in the public interest and thus merits additional evaluation. Potential public benefits include:

• Development of private lands further away from Wolf Creek Ski Area, reducing impacts to skiers and ski area operations.

• Locating residential development and associated infrastructure in an area that is more suitable due to topography, natural resources, and proximity to US Highway 160.

• A net gain of wetlands and perennial streams in public ownership.

• A lower density development.

• The land exchange would obviate the need for ANILCA access.

The Proposed Action involves the conveyance of approximately 178 acres of non-Federal lands to the United States in exchange for NFS lands totaling approximately 204 acres. Upon conveyance of the non-Federal parcel to the United States, the newly acquired NFS lands would be managed by the Rio Grande NF per its 1996 Land and Resource Management Plan, as amended. The lands proposed for inclusion in the land exchange are summarized below.

Non-Federal Lands Proposed To Be Conveyed to the United States

• Township 37 North, Range 2 East, N.M.P.M., Mineral County, Colorado

• Sections 4, 5, 8, and 9: A portion of Tract 37

• Total Area: Approximately 178 acres

In total, the non-Federal parcel is approximately 300 acres in size, of which approximately 178 acres are proposed to be conveyed to the United States. The non-Federal parcel is located approximately 20 miles southwest of South Fork and 25 miles northeast of Pagosa Springs in Mineral County, Colorado.

The non-Federal parcel is located just east of Wolf Creek Pass at approximately 10,300 feet in elevation and is comprised of spruce-fir forest, open meadows and wetlands. The non-Federal parcel adjoins NFS lands on all sides and is located within the Wolf Creek Ski Area permit boundary.

Federal Lands Proposed to be Conveyed by the United States to the Non-Federal Party:

• Township 37 North, Range 2 East, N.M.P.M., Mineral County, Colorado

• Sections 3, 4, 5, and 9: A portion thereof

• Total Area: Approximately 204 acres

The 204-acre Federal parcel is just north and east of the non-Federal parcel, with the remaining portion of the non-Federal party's land separating the two. The Federal parcel is immediately contiguous to US Highway 160 and has similar habitat types as the non-Federal parcel.

Alternative to the Proposed Action—Permanent Easement to the Non-Federal Parcel (ANILCA Alternative): As an alternative to a land exchange, the Rio Grande NF will analyze a potential ANILCA enabled easement under FLPMA across NFS lands to provide access to, and allow development of, the non-Federal parcel.

Common To Both Alternatives: Common to the proposed action and ANILCA access alternative:

1. LMJV's conceptual plans for the Village at Wolf Creek indicate that full buildout would include a four-season resort with a variety of hotels, homes and condominiums; approximately 200,000 square feet of commercial space; and ancillary infrastructure such as roads, water treatment and storage, wastewater treatment and disposal, and power distribution.

2. A grade separated interchange off Highway 160 capable of handling full-buildout traffic estimates would be required to be built at the initial stage of development.

Responsible Official: The responsible official is Dan Dallas, Rio Grande National Forest Supervisor, San Luis Valley Public Lands Center, 1803 West Highway 160, Monte Vista, CO 81144.

Nature of Decision To Be Made: Although the Rio Grande NF received a proposal for the land exchange from a private entity, this is now a Forest Service Proposed Action, which will be analyzed in detail in an EIS. The EIS will analyze potential impacts to the physical, human and biological environment that may result from implementation of the Proposed Action. Issues raised during this public scoping period may generate additional alternatives to be considered along with the proposed action.

A Record of Decision (ROD) will be issued following completion of the analysis in the EIS. Based on the analysis in the EIS, the Responsible Official will decide whether to authorize the Proposed Action, the No Action Alternative (required for inclusion in an EIS) or any action alternative(s) given detailed analysis in the document.

Scoping Process: This notice of intent initiates the scoping process, which guides the development of the EIS. The Forest Service is soliciting comments from Federal, State and local agencies and other individuals or organizations that may be interested in or affected by implementation of the proposed project. Public questions and comments regarding this proposal are an integral part of this environmental analysis process. Input provided by interested and/or affected individuals, organizations and governmental agencies will be used to identify resource issues that will be analyzed in the EIS. The Forest Service will identify significant issues raised during the scoping process, and use them to formulate potential additional alternatives, prescribe mitigation measures and project design features, or analyze environmental effects.

It is important that reviewers provide their comments at such times and in such manner that they are useful to the agency's preparation of the EIS. Therefore, comments should be provided prior to the close of the comment period and should clearly articulate the reviewer's concerns and contentions.

Please note the following public open houses during this scoping period: 4:30-7:00 p.m. on April 25, in Creede, CO at the Creede Community Center; April 26 in Pagosa Springs, CO at the Aragon Recreation Center; and April 27 in Del Norte, CO at the Rio Grande County Annex Building.

Comments received in response to this solicitation, including names and addresses of those who comment, will be part of the public record for this Proposed Action. Comments submitted anonymously will be accepted and considered; however, anonymous comments will not provide the Agency with the ability to provide the respondent with subsequent environmental documents.

Dated: April 13, 2011.
Kathy M. Kurtz,
Acting Forest Supervisor.

[FR Doc. 2011-9425 Filed 4-18-11; 8:45 am]

BILLING CODE 3410-11-P